ENVIRONMENTAL PROTECTION AGENCY

40 CFR Parts 174 and 180

[EPA-HQ-OPP-2025-0028; FRL-12474-06-OCSPP]

Receipt of Pesticide Petitions Filed for Residues of Pesticide Chemicals in or on Various Commodities—June 2025

AGENCY: Environmental Protection Agency (EPA).

ACTION: Notice of filing of petitions and request for comment.

SUMMARY: This document announces the Agency's receipt of and solicits public comment on initial filings of pesticide petitions requesting the establishment or modification of regulations for residues of pesticide chemicals in or on various commodities. The Agency is providing this notice in accordance with the Federal Food, Drug, and Cosmetic Act (FFDCA). EPA uses the month and year in the title to identify when the Agency compiled the petitions identified in this notice of filing. Unit II. of this document identifies certain petitions received in 2023, 2024, and 2025 that are currently being evaluated by EPA, along with information about each petition, including who submitted the petition and the requested action.

DATES: Comments must be received on or before October 6, 2025.

ADDRESSES: Submit your comments, identified by docket identification (ID) number and the pesticide petition (PP) of interest identified in Unit II. of this document, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Each application summary in Unit II. specifies a contact division. The appropriate division contacts are identified as follows:

• BPPD (Biopesticides and Pollution Prevention Division) (Mail Code 7511M); Shannon Borges; main telephone number: (202) 566-1400; email address: BPPDFRNotices@epa.gov.

• RD (Registration Division) (Mail Code 7505T); Charles Smith; main telephone number: (202) 566-1030; email address: RDFRNotices@epa.gov.

SUPPLEMENTARY INFORMATION:

I. Executive Summary

A. Does this action apply to me?

This action provides information that is directed to the public in general.

B. What is the Agency's authority for taking this action?

EPA regulations for residues of pesticide chemicals in or on various food commodities are established under section 408 of the Federal Food, Drug, and Cosmetic Act (FFDCA), 21 U.S.C. 346a. FFDCA section 408(d)(3), 21 U.S.C. 346a(d)(3), requires EPA to publish a notice of receipt of these petitions in the Federal Register and provide an opportunity for public comment on the requests.

C. What action is the Agency taking?

As specified in FFDCA section 408(d)(3), 21 U.S.C. 346a(d)(3), EPA is publishing notice of the receipt of pesticide petitions filed under FFDCA section 408 that request the establishment or modification of regulations for residues of pesticide chemicals in or on various food commodities. The Agency is taking public comment on the requests before responding to the petitioner. Pursuant to 40 CFR 180.7(f), a summary of the petition identified in this document, prepared by the petitioner, is included in a docket. EPA has determined that the pesticide petitions described in this document contain data or information prescribed in FFDCA section 408(d)(2), 21 U.S.C. 346a(d)(2), and 40 CFR 180.7(b); however, EPA has not fully evaluated the sufficiency of the submitted data at this time or whether the data supports granting the pesticide petitions. After considering the public comments, EPA intends to evaluate whether and what action may be warranted. Additional data may be needed before EPA can make a final determination on these pesticide petitions.

Based upon review of the data supporting these petitions and in accordance with its authority under FFDCA section 408(d)(4)(A)(i), EPA may establish a final tolerance or tolerance exemption that “may vary from that sought by the petitioner.” For example, EPA may determine that it is appropriate to vary the commodity name for consistency with EPA's Food and Feed Commodity Vocabulary, which is located here https://www.epa.gov/pesticide-tolerances/food-and-feed-commodity-vocabulary, or vary the tolerance level based on available data, harmonization interests, or the trailing zeros policy. In addition, when evaluating a petition's requests for a tolerance or exemption, EPA will consider how use of the pesticide on a crop for which a tolerance is requested may result in residues in or on commodities related to that requested commodity (e.g., whether use on sugar beets for which a tolerance was requested on sugar beet root also requires a tolerance on sugar beet tops or whether use on a cereal grain for which a grain tolerance was requested also requires a tolerance on related animal feed commodities derived from that cereal grain). Public commenters should consider the possibility of such revisions in preparing comments on these petitions.

D. What should I consider as I prepare my comments for EPA?

1. Submitting CBI. Do not submit CBI to EPA through https://www.regulations.gov or email. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at https://www.epa.gov/dockets/commenting-epa-dockets.

II. Petitions Received

• This unit provides the following information about the petitions:

• The Pesticide Petition (PP) Identification (IN) number;

• EPA docket ID number for the petition;

• Information about the petition (i.e., name of the petitioner, name of the pesticide chemical residue and the commodities for which a tolerance or exemption is sought);

• The analytical method available to detect and measure the pesticide chemical residue or the petitioner's statement about why such a method is not needed; and

• The division to contact for that petition.

Additional information on the petitions may be obtained through the petition summaries that were prepared by the petitioners pursuant to 21 U.S.C. 346a(d)(2)(A)(i)(I) and 40 CFR 180.7(b)(1), which are included in the docket for the petition as identified in this unit.

• PP 4F9135. EPA-HQ-OPP-2024-0322. Gowan Company, LLC, P.O. Box 556, Yuma, AZ 85366, requests to convert the existing regional tolerance in 40 CFR part 180 for residues of the insecticide hexythiazox and its metabolites in or on the raw agricultural commodities of citrus crop group 10-10 at 0.6 parts per million (ppm) to include a national tolerance for crop subgroup 10-10B lemon/lime at 0.6 ppm, while establishing separate, remaining regional tolerances for grapefruit, subgroup 10-10C (CA, AZ, TX only) at 0.5 ppm and orange, subgroup 10-10A (CA, AZ, TX only) at 0.5 ppm. The methodology, Morse Laboratories, LLC, Analytical Method# Meth-220, Original, titled “Determination of Hexythiazox in/on Various Matrices,” dated May 6, 2013, with method modifications dated May 16, 2013, was reviewed by the Agency in the study entitled “Magnitude of the Residue of Hexythiazox in or on Citrus Raw Agricultural Commodities Following One Application of Onager® 1E Miticide”. The same method was used in the new residue data generated to amend the crop subgroup 10-10B lemon/lime tolerance, nationally. Date of receipt: April 9, 2024. Contact: RD.

• PP 5F9183. EPA-HQ-OPP-2025-0294. FMC Corporation, 2929 Walnut Street, Philadelphia, PA 19104, requests to amend the tolerance in 40 CFR 180 for residues of the insecticide chlorantraniliprole in or on rice, grain at 10 parts per million (ppm) and rice, hulls at 30 ppm. The LC/MS/MS methods are used to measure and evaluate the chemical. Date of receipt: April 30, 2025. Contact: RD.

• PP 5F9183. EPA-HQ-OPP-2025-0294. FMC Corporation, 2929 Walnut Street, Philadelphia, PA 19104, requests to amend the tolerance in 40 CFR 180 for residues of the insecticide chlorantraniliprole in or on rice, grain at 10 parts per million (ppm) and rice, hulls at 30 ppm. The LC/MS/MS methods are used to measure and evaluate the chemical. Date of receipt: April 30, 2025. Contact: RD.

• PP IN-11992. EPA-HQ-OPP-2025-0154. Ramboll, 4245 North Fairfax Dr., Suite 700, Arlington, VA 22203, on behalf of Shell Trading (US) Company, 1000 Main Street 12th Floor, Houston, TX 77002, requests to establish an exemption from the requirement of a tolerance for residues of alkanes, C12-15-branched and linear (CAS Reg. No. 1437281-03-2); distillates (Fischer-Tropsch), C8-26-branched and linear (CAS Reg. No. 848301-67-7); and alkanes, C18-24-branched and linear (CAS Reg. No. 1437280-85-7) when used as pesticide inert ingredients (solvents) in pesticide formulations under 40 CFR 180.910 (limited to ≤40% by weight in water-based formulations and at no more than 95% by weight in neat spray oil formulations). The petitioner believes no analytical method is needed because it is not required for an exemption from the requirement of a tolerance. Date of receipt: June 11, 2025. Contact: RD.

• PP 4F9125. EPA-HQ-OPP-2025-0099. Pioneer Hi-Bred International, Inc., 7300 NW 62nd Avenue, P.O. Box 1000, Johnston, IA 50131, requests to establish an exemption from the requirement of a tolerance in 40 CFR part 174 for residues of the plant-incorporated protectant (PIP) Bacillus thuringiensis Cry1B.34.1 protein in or on all food and feed commodities. The petitioner believes no analytical method is needed because an exemption from the requirement of a tolerance is being sought. Date of receipt: April 24, 2025. Contact: BPPD.

• PP 4F9126. EPA-HQ-OPP-2025-0100. Pioneer Hi-Bred International, Inc., 7300 NW 62nd Avenue, P.O. Box 1000, Johnston, IA 50131, requests to establish an exemption from the requirement of a tolerance in 40 CFR part 174 for residues of the plant-incorporated protectant (PIP) Bacillus thuringiensis Cry1B.61.1 protein in or on all food and feed commodities. The petitioner believes no analytical method is needed because an exemption from the requirement of a tolerance without is being sought. Date of receipt: April 24, 2025. Contact: BPPD.

• PP 4F9127. EPA-HQ-OPP-2025-0089. Pioneer Hi-Bred International, Inc., 7300 NW 62nd Avenue, P.O. Box 1000, Johnston, IA 50131, requests to establish an exemption from the requirement of a tolerance in 40 CFR part 174 for residues of the plant-incorporated protectant (PIP) Adiantum trapeziforme var. braziliense IPD083Cb protein in or on all food and feed commodities. The petitioner believes no analytical method is needed because an exemption from the requirement of a tolerance is being sought. Date of receipt: April 24, 2025. Contact: BPPD.

• PP 3F9097. EPA-HQ-OPP-2024-0402. FMC Corporation, 2929 Walnut Street, Philadelphia, PA 19104, requests to establish a tolerance in 40 CFR part 180 for residues of the herbicide tetflupyrolimet in or on Crop Group 7-22; Forage and Hay for Legume Vegetable Group at 0.2 ppm; Rice, grain at 0.04 parts per million (ppm); and Soybean, seed at 0.01 ppm. The high-pressure liquid chromatography with ESI-MS/MS detection, is used to measure and evaluate the chemical tetflupyrolimet, (3S, 4S)-N-(2-fluorophenyl)-1-methyl-2-oxo-4-[3-(trifluoromethyl)phenyl]-3-pyrrolidinecarboxamide, including its metabolites and degradates. Date of receipt: November 13, 2023. Contact: RD.

• PP 4F9135. EPA-HQ-OPP-2024-0322. Gowan Company, LLC, P.O. Box 556 Yuma, AZ 85366, requests to convert the existing regionally restricted tolerance in 40 CFR part 180 for residues of the insecticide hexythiazox and its metabolites in or on the raw agricultural commodities of Citrus Crop Group 10-10 at 0.6 parts per million (ppm) to include a national tolerance for Crop Subgroup 10-10B lemon/lime at 0.6 ppm, while establishing separate, remaining regionally restricted tolerances for Grapefruit, subgroup 10-10C (CA, AZ, TX only) at 0.5 ppm and Orange, subgroup 10-10A (CA, AZ, TX only) at 0.5 ppm. The methodology, Morse Laboratories, LLC, Analytical Method# Meth-220, Original, titled “Determination of Hexythiazox In/On Various Matrices,” dated May 6, 2013, with method modifications dated May 16, 2013, was reviewed by the Agency in the study entitled “Magnitude of the Residue of Hexythiazox in or on Citrus Raw Agricultural Commodities Following One Application of Onager® 1E Miticide”. The same method was used in the new residue data generated to amend the crop subgroup 10-10B lemon/lime tolerance, nationally. Date of receipt: April 9, 2024. Contact: RD.

• PP 4F9136. EPA-HQ-OPP-2024-0323. BASF Corporation, 26 Davis Drive, P.O. Box 13528, Research Triangle Park, NC 27709, requests to establish tolerances in 40 CFR 180.649(a)(1) for residues of the herbicide saflufenacil, including its metabolites and degradates, in or on Corn, pop, forage at 0.4 parts per million (ppm); corn, pop, stover at 5 ppm; corn, sweet, forage at 0.5 ppm; corn, sweet, stover at 0.6 ppm; soybean, forage at 0.3 ppm; and soybean, hay at 0.3 ppm. Adequate enforcement methodology (liquid chromatography/mass spectrometry/mass spectrometry (LC/MS/MS)) methods for plant and livestock commodities are available to enforce the tolerance expression. Date of receipt: April 29, 2024. Contact: RD.

• PP 4F9138. EPA-HQ-OPP-2025-0183. Syngenta Crop Protection, LLC., P.O. Box 18300, Greensboro, NC 27419-8300, requests to establish a tolerance in 40 CFR part 180 for residues of the fungicide pydiflumetofen including its metabolites and degradates in or on sugarcane at 0.05 parts per million (ppm). The QuEChERS and GRM061.03A methods are used to measure and evaluate the chemical pydiflumetofen. Date of receipt: May 2, 2024. Contact: RD.

• PP 4F9163. EPA-HQ-OPP-2025-0219. BASF Corporation, 26 Davis Drive, P.O. Box 13528, Research Triangle Park, North Carolina 27709-3528, requests to establish a tolerance in 40 CFR part 180 for residues of the fungicide pyraclostrobin and its desmethoxy metabolite in or on tea, dried at 20 parts per million (ppm). The BASF no. 535/1 (L0076/09) method is used to measure and evaluate the chemical pyraclostrobin and its metabolite. Date of receipt: December 17, 2024. Contact: RD.

• PP5E9165.EPA-HQ-OPP-2025-0210. Bayer CropScience LP, 800 N. Lindbergh Blvd., St. Louis, MO 63167, requests to establish a tolerance in 40 CFR 180 for residues of the fungicide fluopyram (N-[2-[3-chloro-5-(trifluoromethyl)-2-pyridinyl]ethyl]-2-(trifluoromethyl)benzamide) in or on crop subgroup 24B, tropical and subtropical, medium to large fruit, smooth, inedible peel subgroup at 1 parts per million (ppm). The high-performance liquid chromatography-electrospray ionization/tandem mass spectrometry (LC-MS/MS) is used to measure and evaluate the chemical fluopyram. Date of receipt: December 19, 2024. Contact: RD.

• PP 5F9175. EPA-HQ-OPP-2025-0158. ABERCO, Inc. A Balchem Company, 5 Paragon Drive, Suite 201, Montvale, NJ 07645, requests to establish a tolerance in 40 CFR part 180 for residues of the fungicide propylene oxide (PPO) in or on sesame, seed; turmeric, roots, dried; ginger, dried; pepper, bell, dried; and pepper, nonbell, dried at 300 parts per million (ppm) for PPO, including its metabolites and degradates and 6,000 parts per million (ppm) for its reaction product propylene chlorohydrin (PCH), including its metabolites and degradates. The analytical method using solvent extraction followed by gas chromatography (GC) in tandem with electron impact ionization mass spectrometry (EIMS) or electron capture detection (ECD) is used to measure and evaluate the chemical PPO. Date of receipt: February 11, 2025. Contact: RD.

Authority: 21 U.S.C. 346a.

Dated: August 22, 2025.
Kimberly Smith,
Acting Director, Information Technology and Resources Management Division, Office of Program Support.

[FR Doc. 2025-17008 Filed 9-4-25; 8:45 am]

BILLING CODE 6560-50-P